DEPARTMENT OF THE INTERIOR

National Park Service

[NPS-IMR-LAMR-12036;PX.PD104097F.00.1]

General Management Plan, Draft Environmental Impact Statement, Lake Meredith National Recreation Area and Alibates Flint Quarries National Monument, Texas

AGENCY: National Park Service, Interior.

ACTION: Notice of Availability.

SUMMARY: Pursuant to the National Environmental Policy Act of 1969, 42 U.S.C. 4332(2)(C), the National Park Service announces the availability of a Draft Environmental Impact Statement for the General Management Plan, Lake Meredith National Recreation Area and Alibates Flint Quarries National Monument, Texas.

DATES: The National Park Service will accept comments on the Draft Environmental Impact Statement from the public for 60 days after the date the Environmental Protection Agency publishes this Notice of Availability. Public meetings on the draft will be scheduled during the comment period. Interested parties are encouraged to check the park Web site and local media for information.

ADDRESSES: Information will be available for public review and comment online at http://parkplanning.nps.gov/LAMR, in the office of the Chief of Resources, Arlene Wimer, 419 E. Broadway, Fritch, TX 79036, 806-857-0309.

FOR FURTHER INFORMATION CONTACT: Arlene Wimer, Chief of Resources, Lake Meredith National Recreation Area, P.O. Box 1460, Fritch, TX 79036; or call 806-857-0309.

SUPPLEMENTARY INFORMATION: The document describes three management alternatives for Lake Meredith National Recreation Area and three management alternatives for Alibates Flit Quarries National Monument. Each NPS unit includes a no-action alternative and two action alternatives. The anticipated environmental impacts of all these alternatives are also analyzed.

Lake Meredith National Recreation Area: Alternative 1, the no-action alternative, would extend existing conditions and management trends into the future. This alternative serves as a basis of comparison for evaluating the action alternatives. Alternative 2 would provide quality recreation, enhance traditional activities, and improve resource protection. The focus would be on providing a better visitor experience through additional or improved facilities and increased interpretation in accessible settings, and expanded types of recreational opportunities in areas designated as rural and semi-primitive zones. Alternative 3, the NPS preferred alternative, would promote both legislated and nontraditional uses, developing facilities and opportunities to address changing lake conditions and visitor uses. The recreation area would become a destination for semi-primitive outdoor recreation opportunities and encourage nonmotorized recreation such as hiking, biking, backpacking, horseback riding, and paddling. NPS would also strengthen partnerships to improve visitor experience.

Alibates Flint Quarries National Monument: Alternative A, the no-action alternative would extend existing conditions and management trends into the future. This alternative serves as a basis of comparison for evaluating the action alternatives. Alternative B, the NPS preferred alternative, would expand interpretation and education to provide a better understanding and appreciation of the flint and the people who quarried and used it while maintaining access restrictions that protect the archeological resources. Guided tours of the quarries would continue and would include the interpretation of an excavated quarry near the trail. Additional visitor opportunities would be provided in nearby parts of Lake Meredith National Recreation Area. These would include a self-guided interpretive trail near the visitor contact station and outdoor interpretive materials on the terrace above the visitor contact station. Alternative C would provide a greater understanding and appreciation for archeological protection through enhanced educational opportunities and research. It also would accommodate a wider range of visitor uses and experiences by zoning part of the national monument for unrestricted visitor access by foot.

If you wish to comment, you may submit your comments by any one of several methods. You are encouraged to submit comments via the Internet at http://parkplanning.nps.gov/LAMR. You may also mail comments to National Park Service, Denver Service Center—Erin Flanagan, P.O. Box 25287, Denver, CO 80225. Finally, you may hand-deliver comments to 419 E. Broadway, Fritch, TX 79036. Before including your address, phone number, email address, or other personal identifying information in your comment, you should be aware that your entire comment—including your personal identifying information—may be made publicly available at any time. While you can ask us in your comment to withhold your personal identifying information from public review, we cannot guarantee that we will be able to do so.

Dated: January 15, 2013.
John Wessels,
Regional Director, Intermountain Region, National Park Service.

[FR Doc. 2013-07487 Filed 3-29-13; 8:45 am]

BILLING CODE 4312-CB-P